DEPARTMENT OF ENERGY

Federal Energy Regulatory Commission

[Docket No. EC03-9-000, et al.]

Great Bay Power Corporation, et al.; Electric Rate and Corporate Regulation Filings

November 5, 2002.

The following filings have been made with the Commission. The filings are listed in ascending order within each docket classification.

1. Great Bay Power Corporation and Great Bay Power Marketing, Inc.

[Docket No. EC03-9-000]

Take notice that on October 31, 2002, Great Bay Power Corporation (GBPC) and Great Bay Power Marketing, Inc.(GBPM), filed with the Federal Energy Regulatory Commission (Commission) an application pursuant to section 203 of the Federal Power Act and 18 CFR part 33 for authority to transfer a purchased power agreement entered into between GBPC and Unitil Power Corp. from GBPC to GBPM. The Applicants request that the Commission act on the application so that the transfer may be consummated before December 31, 2002.

Comment Date: November 21, 2002.

2. Hermiston Generating Company, L.P.

[Docket No. EC03-10-000]

Take notice that on October 31, 2002, Hermiston Generating Company, L.P. (Hermiston) tendered for filing with the Federal Energy Regulatory Commission (Commission), pursuant to section 203 of the Federal Power Act, 16 U.S.C. section 824b (1994), and part 33 of the Commission's regulations, 18 CFR part 33, an application for authorization to dispose of jurisdictional facilities. More specifically, Buckeye Power Corporation and Larkspur Power Corporation propose to sell up to 50% of their ownership interest in Hermiston to an indirect, wholly-owned subsidiary of Sumitomo Corporation.

Comment Date: November 21, 2002.

3. Arizona Public Service Company

[Docket No. ER99-3288-008]

Take notice that on October 31, 2002, Arizona Public Service Company (APS) tendered for filing Quarterly Refund payments to eligible wholesale customers under the Company's Fuel Cost Adjustment Clause (FAC).

A copy of this filing has been served upon the affected parties, the California Public Utilities Commission, and the Arizona Corporation Commission.

Customer Name | APS-FPC/ FERC Rate Schedule
Electrical District No. 3 | 12
Tohono O'odham Utility Authority | 52
Arizona Electric Power Cooperative | 57
Wellton-Mohawk Irrigation and Drainage District | 58
Arizona Power Authority | 59
Colorado River Indian Irrigation Project | 65
Electrical District No. 1 | 68
Arizona Power Pooling | 70
Town of Wickenburg | 74
Southern California Edison Company | 120
Electrical District No. 6 | 126
Electrical District No. 7 | 128
City of Page | 134
Electrical District No. 8 | 140
Aguila Irrigation District | 141
McMullen Valley Water Conservation and Drainage District | 142
Tonopah Irrigation District | 143
Citizens Utilities Company | 207
Harquahala Valley Power District | 153
Buckeye Water Conservation and Drainage District | 155
Roosevelt Irrigation District | 158
Maricopa County Municipal Water Conservation District | 168
City of Williams | 192
San Carlos Indian Irrigation Project | 201
Maricopa County Municipal Water Conservation District at Lake Pleasant | 209

Comment Date: November 21, 2002.

4. Carolina Power & Light Company

[Docket No. ER00-3435-005]

Take notice that on October 31, 2002, Progress Energy, Inc. (Progress Energy) on behalf of Carolina Power & Light Company (CP&L) and Florida Power Corporation (FPC) tendered for filing a revision to CP&L's generator interconnection procedures (Interconnection Procedures) in compliance with the Commission's Order issued in this docket on August 2, 2002.

Progress Energy respectfully requests that the revision to CP&L's Interconnection Procedures become effective November 1, 2002, the day after filing.

Comment Date: November 21, 2002.

5. Otter Tail Power Company

[Docket Nos. ER02-912-005; ER02-1728-001; ER02-1729-001; ER02-1730-002; ER02-1732-001]

Take notice that on October 31, 2002, Otter Tail Power Company submitted the compliance filing required by the Commission's July 5, 2002, order in consolidated Docket Nos. ER02-912-000; ER02-912-001; ER02-1728-000; ER02-1729-000; ER02-1730-000; and ER02-1732-000. Copies of this filing were served on all parties included on the Commission's official service list established in this proceeding.

Comment Date: November 21, 2002.

6. Duke Energy Corporation

[Docket No.ER02-994-003]

Take notice that on October 31, 2002, Duke Energy Corporation (Duke), on behalf of Duke Electric Transmission (Duke ET), tendered for filing (I) a Generation Interconnection and Operating Agreement between Duke ET and South Carolina Public Service Authority (SCPSA), and (ii) an Amendment to the Restated Interchange Agreement between Duke Power Company and SCPSA dated February 10, 1992. Duke requests an effective date of January 1, 2003.

Comment Date: November 21, 2002.

7. The GridAmerica Participants

[Docket No. ER02-2233-001]

Take notice that on November 1, 2002, the GridAmerica Participants (Ameren Services Company, acting as agent for its electric utility affiliates Union Electric Company d/b/a AmerenUE and Central Illinois Public Service Company d/b/a/ AmerenCIPS, FirstEnergy Corp., on behalf of its subsidiary American Transmission Systems, Inc., Northern Indiana Public Service Company, and National Grid USA) and the Midwest Independent Transportation System Operator, Inc. (Midwest ISO) (collectively, the parties) submitted for filing in compliance with the Commission's July 31, 2002, order in the above-captioned proceeding, 100 FERC ¶61,135, an executed appendix I ITC Agreement between the GridAmerica LLC and the Midwest ISO.

In addition, the GridAmerica Parties submitted the definitive agreements necessary for the formation and operation of GridAmerica as an independent transmission company within the Midwest ISO. These agreements are the LLC Agreement, the Operation Agreement, and the Master Agreement. The LLC Agreement sets forth the governance and financing of GridAmerica, including the rights and obligations of its managing member, an affiliate of National Grid. The Master Agreement sets forth the steps that must be completed to reach the transmission service date as well as the rights and obligations of the parties concerning divestiture of transmission facilities to the ITC. The Operation Agreement contains the terms and conditions on which the Company will manage GridAmerica transmission facilities.

In order for GridAmerica to become operational during April 2003, the parties request that, by December 31, 2002, the Commission issue an order approving the filing and granting all necessary authorizations for the formation and operation of GridAmerica, including the transfer of functional control as provided in the agreements, and that the Commission set November 22, 2002, as the date for comments on the filings. The parties state that they are serving copies of the filing on the parties to the above-referenced proceeding in accordance with the requirements of section 385.2010 of the Commission's regulations, 18 CFR 285.2010 and serving the filing by email on the parties on the Midwest ISO's extensive email service list.

Comment Date: November 20, 2002.

8. Nevada Power Company

[Docket No. ER03-89-000]

Take notice that on October 31, 2002, Nevada Power Company, tendered for filing pursuant to section 205 of the Federal Power Act, an executed Service Agreement for Network Integration Transmission Service (Service Agreement) between Nevada Power Company and the City of Needles, California. The Service Agreement is being filed as Service Agreement No. 136 under Sierra Pacific Resources Operating Companies' FERC Electric Tariff, First Revised Volume No. 1.

Nevada Power Company has requested that the Commission accept the Service Agreement and permit service in accordance therewith effective October 1, 2002.

Comment Date: November 21, 2002.

9. Southern California Edison Company

[Docket No. ER03-103-000]

Take notice that on October 31, 2002, Southern California Edison Company stated that effective the first day of January 2003, rate schedule FERC nos. 368, 369 and 370 effective August 1, 1990, January 1, 1995, and April 1, 1998, respectively, and filed with the Federal Energy Regulatory Commission by Southern California Edison Company, are to be canceled.

Notice of the proposed cancellation has been served upon the Public Utilities Commission of the State of California and the City of Anaheim, California.

Comment Date: November 21, 2002.

10. Southern California Edison Company

[Docket No. ER03-104-000]

Take notice that on October 31, 2002, Southern California Edison Company, stated that effective the first day of January 2003, rate schedule FERC Nos. 395, 396, 397, 398, 399 and 400 effective December 29, 1992, May 1, 1995, April 30, 1996, June 1, 1996, June 1, 1996 and July 16, 1996, respectively, and filed with the Federal Energy Regulatory Commission by Southern California Edison Company, are to be canceled.

Notice of the proposed cancellation has been served upon the Public Utilities Commission of the State of California and the City of Riverside, California.

Comment Date: November 21, 2002.

11. Public Service Electric and Gas Company

[Docket No. ER03-105-000]

Take notice that on October 31, 2002, Public Service Electric and Gas Company (PSE&G) submitted for filing a revised Interconnection Agreement, reflecting revisions to an existing Interconnection Agreement dated August 2000 between PSE&G and the Joint Owners of the Hope Creek Generating Station and Switchyard. Copies of this filing were served on the Joint Owners and on PJM Interconnection, L.L.C.

Comment Date: November 21, 2002.

12. Virginia Electric and Power Company

[Docket No. ER03-106-000]

Take notice that on October 31, 2002, Virginia Electric and Power Company (the Dominion Virginia Power or Company) respectfully tendered for filing an amendment to its Wholesale Cost-Based Rate Tariff. Dominion seeks an effective date of January 1, 2003, which is sixty 60 days after the date of this filing.

Copies of the filing were served upon the Virginia State Corporation Commission, the North Carolina Utilities Commission, and all customers under the wholesale cost based tariff.

Comment Date: November 21, 2002.

13. CP Power Sales Five, L.L.C.

[Docket No. ER03-107-000]

Take notice that on October 31, 2002, CP Power Sales Five, L.L.C., tendered for filing a Notice of Cancellation of its authorization to engage in wholesale electric energy transactions at market-based rates, filed on April 10, 1995.

Comment Date: November 21, 2002.

14. CP Power Sales Thirteen, L.L.C.

[Docket No. ER03-108-000]

Take notice that on October 31, 2002, CP Power Sales Thirteen, L.L.C., tendered for filing a Notice of Cancellation of its authorization to engage in wholesale electric energy transactions at market-based rates, filed on December 11, 1998.

Comment Date: November 21, 2002.

15. CP Power Sales Fourteen, L.L.C.

[Docket No. ER03-109-000]

Take notice that on October 31, 2002, CP Power Sales Fourteen, L.L.C., tendered for filing a Notice of Cancellation of its authorization to engage in wholesale electric energy transactions at market-based rates, filed on December 11, 1998.

Comment Date: November 21, 2002.

16. CP Power Sales Fifteen, L.L.C.

[Docket No. ER03-110-000]

Take notice that on October 31, 2002, CP Power Sales Fifteen, L.L.C., tendered for filing a Notice of Cancellation of its authorization to engage in wholesale electric energy transactions at market-based rates, filed on December 11, 1998.

Comment Date: November 21, 2002.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Magalie R. Salas,
Secretary.

[FR Doc. 02-28889 Filed 11-12-02; 8:45 am]

BILLING CODE 6717-01-P